DEPARTMENT OF EDUCATION

National Awards Program for Effective Teacher Preparation

AGENCY: Office of Educational Research and Improvement (OERI), Department of Education.

ACTION: Notice of Eligibility And Selection Criteria.

SUMMARY: The Assistant Secretary for OERI announces eligibility and selection criteria to govern competitions under the National Awards Program for Effective Teacher Preparation for fiscal year (FY) 2000 and future years. Using these criteria, the awards program will recognize programs that effectively prepare elementary school teachers or secondary school mathematics teachers and that lead to improved student learning.

EFFECTIVE DATE: These eligibility and selection criteria are effective May 11, 2000.

FOR FURTHER INFORMATION CONTACT: Sharon Horn, Office of Educational Research and Improvement, U.S. Department of Education, 555 New Jersey Avenue, NW., room 506E, Washington, DC 20208-5644. Telephone: (202) 219-2203 or FAX to (202) 219-2198. Inquiries also may be sent by e-mail to: sharon_horn@ed.gov

If you use a telecommunications device for the deaf (TDD), you may call the Federal Information Relay Service (FIRS) at 1-800-877-8339.

Individuals with disabilities may obtain this document in an alternate format (e.g., Braille, large print, audiotape, or computer diskette) on request to the contact person listed in the preceding paragraph.

SUPPLEMENTARY INFORMATION: This notice announces eligibility and selection criteria to govern applications for recognition that are submitted under the National Awards Program for Effective Teacher Preparation. The criteria established in this notice would be used to select award recipients in the program's initial year, FY 2000, and in subsequent fiscal years.

This new program, which is part of a continuing effort to honor excellence in education, is the result of an increased emphasis across the country on teacher quality and the well-established principle that high-quality K-12 teachers are critical to the ability of children in our nation's schools to achieve to high standards. The program represents the first systematic approach for identifying entities that have successfully linked their programs for preparing teachers to improved student achievement at the K-12 level. We believe that the current emphasis on heightened academic standards for elementary and secondary students and the need for teachers to gain the knowledge and skills necessary to teach to those standards makes this program, which focuses attention on those teacher preparation programs that are particularly effective in preparing teachers who, in turn, are effective in helping students improve their learning, all the more timely.

The Assistant Secretary for OERI published a Notice of Proposed Eligibility and Selection Criteria for this program in the Federal Register on January 21, 2000 (65 FR 3427). As stated in that notice, we recognize that demonstrating the link between teacher preparation programs and the ability of program graduates to improve student learning is not an easy task. Nevertheless, the difficulty involved makes that link no less critical. We intend to select for awards no more than five pre-service teacher preparation programs that are on the leading edge in this effort. Our chief goal in recognizing these programs is to foster an understanding of how these noteworthy programs design their teacher preparation activities to increase K-12 student achievement and how their approaches can be replicated or built upon by other institutions that prepare teachers. For that reason, the criteria for selecting award recipients, as described in this notice, focus significantly on the ability of applicants to provide compelling evidence of effectiveness in preparing teachers who positively impact student learning.

The timeliness of this new awards program is also supported by the fact that institutions producing teachers, and the states that certify them, are increasingly coming under scrutiny as the public seeks higher standards and greater accountability for public schools and school teachers. The Department, as well as many States, is currently implementing new accountability measures and reporting requirements for States and for colleges and universities receiving Federal grants to support teacher training programs. Some institutions have already implemented accountability measures, while others have started to take steps to improve and to become accountable for the teachers they train. We hope that bringing attention to those teacher preparation programs that are effective in this area will serve to assist other programs in their efforts to improve their level of accountability.

In order to align the program with nation-wide efforts to improve achievement levels in math and reading, this awards program will focus, in its initial year, on programs that prepare elementary teachers (since elementary school teachers often teach both math and reading) and programs that prepare middle or high school mathematics teachers or both. Thus, to be selected for an award, applicants must be able to show that their graduates are effective in helping all students improve their learning in reading and mathematics at the elementary level or mathematics at the middle and high school level or both. By “all students,” we mean the diverse population of students that graduates of teacher education programs may encounter in the classroom or other educational setting, including regular and special education students, students from diverse backgrounds, and students with limited English proficiency. The selection process will also depend on the ability of applicants to demonstrate that their graduates have a depth of content knowledge in mathematics and reading or both, acquire general and content-specific pedagogical knowledge and skills, and develop skills to examine attitudes and beliefs about learners and the teaching profession.

Note: This notice does not solicit applications. A notice inviting applications under this competition is published elsewhere in this edition of the Federal Register.

Analysis of Comments and Changes

In response to the Assistant Secretary's invitation in the notice of proposed eligibility and selection criteria, two parties submitted comments. An analysis of the comments and of the changes in the eligibility and selection criteria since publication of the notice of proposed criteria follows.

Generally, we do not discuss technical and other minor changes; nor do we discuss comments that are unrelated to the content of the eligibility or selection criteria. Substantive issues are addressed below under the appropriate section to which they pertain.

Eligible Applicants

Comments: One commenter questioned whether the proposed eligibility (and selection) criteria placed greater emphasis on achievement in reading, as opposed to mathematics, at the elementary school level.

Discussion: As noted in the preamble discussion above, and in the notice of proposed eligibility and selection criteria, the National Awards Program for Effective Teacher Preparation is focused, in this first year, on the preparation of both reading and mathematics teachers at the K-12 level. It is anticipated that an entity that prepares elementary school teachers will focus its application on increased student learning in reading and mathematics since program graduates teaching in elementary schools typically teach both subjects. Each discipline—reading and math—is given equal emphasis in this awards program. On the other hand, entities that prepare middle school teachers or high school teachers (or both) must focus their applications on increased student learning in mathematics, a discipline routinely taught in middle and high schools.

Changes: None.

Background and Program Description

Comment: One commenter suggested that applicants be required to consider addressing, as part of the background description of their program, any applicable State or district policies affecting their efforts in preparing teachers.

Discussion: In addition to requiring applicants to provide the mission statement, goals and objectives, and components of their teacher preparation program, the Background section of the proposed selection criteria instructed applicants to consider including certain types of information (e.g., recruitment policies, program structure, resources, etc.) as part of a full description of their program. We agree that teacher preparation programs also may be affected by State or local policies regarding, for example, academic course requirements for teachers, or other factors that relate to the training of teachers in a certain geographic region. Thus, we have amended the proposed criteria to include applicable State or district policies among the list of items applicants can consider addressing in their applications. We also note, however, that the list of items to be considered, other than the mission, goals and objectives, and program components, are provided only as examples. Applicants are advised to address any one or more of the identified factors, or other factors, that are most pertinent to their teacher preparation program.

Changes: This section of the proposed selection criteria has been amended to refer to State or district policies as an area that applicants may address as part of the description of their program.

Program's Criteria for Effectiveness

Comment: One commenter suggested that the proposed criteria under this section be modified to require an explanation of the specific standards on which the applicant's program is based. The commenter indicated that requiring applicants to explain the standards they follow—whether they be State licensure, higher education, K-12, or other applicable standards—will draw attention to the criteria used by award recipients in their efforts to prepare effective teachers.

Discussion: In this section of the proposed selection criteria, the question is posed to applicants, “What are the criteria the program uses to evaluate [the effectiveness of its teacher preparation program]?” This question is designed to ensure that each applicant describes the relevant standards that it uses to evaluate its program and guide improvements and modifications. Nevertheless, we agree that referring to specific examples of standards that might be used in this regard (e.g., the standards issued by the National Council for Accreditation of Teacher Education (NCATE) as identified by the commenter, state teacher licensure standards, or other criteria) will further guide applicants in addressing this question.

Changes: This section of the proposed selection criteria has been amended to identify some examples of the types of standards that entities use for purposes of evaluating the effectiveness of their teacher preparation program.

Evidence of Effectiveness

Comment: One commenter asked that applicants be required to demonstrate the impact that their teacher preparation program has on learning for all students and not just on certain populations of students.

This commenter also pointed out that applicants may face certain obstacles in collecting data on teachers, or on K-12 students, that is needed to demonstrate the effectiveness of their program. For instance, the commenter noted that it may be difficult for entities preparing teachers to track graduates who teach in other geographic regions, while data on reading or math achievement by K-12 students, if used by an applicant, will vary by State depending upon how often, and the extent to which, students in the State are tested. For these reasons, the commenter suggested that applicants be asked to discuss in the application any intervening factors that impact the evaluation of their teacher preparation program.

Discussion: We fully agree with the concern expressed by the commenter that applicants focus on improved learning for all students and believe that the proposed criteria made clear that selection for an award will be based significantly on the extent to which an applicant can demonstrate that their program for preparing teachers leads to improved student achievement for all students taught by program graduates. As noted above, and in the preamble guidance to the notice of proposed criteria, “all students” refers to the diverse population of students that teachers may work with in the classroom (or other appropriate educational setting). Thus, applicants should provide evidence of their program's effectiveness on learning for regular education students, students receiving special education, students from diverse ethnic backgrounds, students with limited English proficiency, students in urban and rural areas, and any other identified population of students, to the extent that program graduates teach such populations and to the extent that such evidence is available.

In addition, we agree with the commenter that applicants are likely to encounter different challenges in collecting data and compiling their evidence of effectiveness. Consequently, this section of the final selection criteria will invite applicants to discuss those challenges and how they have overcome any such obstacles in order to evaluate their program.

Changes: This section of the proposed selection criteria has been amended to include a note inviting applicants to discuss factors affecting their data collection efforts and their success in dealing with these factors in the course of evaluating the effectiveness of their graduates.

Eligibility, Application, and Selection Criteria

Eligible Applicants

Eligible applicants are institutions in the States (including the District of Columbia, Puerto Rico, and the outlying areas) that prepare elementary teachers, or middle or high school mathematics teachers, for initial certification. Institutions of higher education as well as institutions that are not part of a college or university are eligible to apply. Since this program focuses on initial preparation of teachers, alternative certification programs are eligible, while in-service programs are not.

For purposes of this notice, a “teacher preparation program” refers to a defined set of experiences that, taken as a whole, prepares participants for initial (or alternative) certification to teach. Detailed instructions for applying for this award, including formatting instructions, are provided within the application package and must be followed to receive an award.

Application Content Requirements

Applicants are free to develop their application in any way they choose as long as they comply with the requirements set out in the application package. In evaluating applications for the National Awards Program for Effective Teacher Preparation, reviewers will look to see whether the application, taken as a whole, demonstrates that the applicant's teacher preparation program leads to improved teacher effectiveness and increased student achievement at the K-12 level. In doing so, reviewers will be guided by the extent to which and how well applicants address the following components of the application, the most important of which concern objective evidence of effectiveness under Section C of the application.

Sections A, B, and D of the application provide reviewers with information describing the teacher preparation program and its potential as an example for others. Reviewers will use the information in these three sections to determine the extent to which there is a logical connection between the various aspects of the program and the results achieved. In other words, they will check for consistency between the information provided in these sections and the applicant's claims of effectiveness under section C.

In section C, applicants provide formative, summative, and confirming evidence that their program is effective in preparing graduates who are able to help all K-12 students improve their learning in reading and mathematics at the elementary level or mathematics at the middle or high school level.

Where appropriate, the following sections of the application include one or more questions that are designed to help applicants formulate their responses.

A. Background and Program Description

In this section, applicants must provide the mission statement, goals and objectives, and the components of their teacher preparation program and explain how these items relate to the effective preparation of elementary teachers or middle and/or high school mathematics teachers.

In responding to this section, applicants are encouraged to provide information about:

1. Recruitment policies for faculty and candidates.

2. Selection procedures for faculty and candidates.

3. Program structure (e.g., course and field experiences, support for preservice and novice teachers, mechanisms for monitoring participants' progress).

4. State or district policies or mandates that affect the components of the teacher preparation program.

5. Resources that support the program.

6. Methods for collaboration between the program and K-12 schools.

7. Graduation or completion criteria and rates.

8. Job placement and retention rates of graduates.

B. Program's Criteria for Effectiveness

In this section, applicants must describe the principles, standards, or other criteria that the applicant uses to judge the effectiveness of its teacher preparation program.

Note: Applications are not being evaluated against a given set of principles for all programs, but are expected to include relevant criteria for guiding program improvement and modifications).

In responding to this section, applicants should consider the following questions:

1. What are the criteria or standards (e.g., NCATE, INTASC, NBPTS, NCTM, state teacher licensure requirements and other appropriate standards) the program uses to evaluate its effectiveness?

2. How does the program ensure that program components such as courses and instructional practices are consistent with the evaluation criteria or standards under Question 1?

C. Evidence of Effectiveness

In this section, applicants must provide three separate types of evidence that demonstrates the effectiveness of their teacher preparation program: formative, summative, and confirming evidence.

“Formative evidence” refers to the use of data to make adjustments to the program throughout its various stages. These data are collected as participants (i.e., preservice teachers) move through the program.

“Summative evidence” demonstrates that the program is effective in helping graduates acquire the necessary knowledge and skills to improve student learning. Summative evidence is collected as preservice teachers complete the program.

“Confirming evidence” links teacher preparation and K-12 student learning by demonstrating that program graduates are effective in helping all K-12 students improve their learning. Confirming evidence is collected on graduates who are employed by schools or districts.

Applicants would supply a brief description for each evidence item submitted. This description must include information about the nature of the data, the methods used to collect the data, and a summary of the data analysis.

In responding to this section, applicants must consider the following questions:

1. What evidence is there that the program, described in section A, gathers data about the effectiveness of the various stages of the program and uses that data to make improvements to the program? (Formative evidence)

2. What evidence is there that the program is effective in helping graduates acquire the knowledge and skills needed to improve student learning in reading and mathematics for all elementary school students or in mathematics for all middle or high school students? (Summative evidence)

Note: Summative evidence in this section should address graduates' content knowledge, pedagogical knowledge and skills, and skills to examine beliefs about learners and teaching as a profession.

3. What evidence is there that the program's graduates are effective in helping all K-12 students improve their learning in reading and mathematics at the elementary level or mathematics at the middle or high school level? (Confirming evidence)

Note: If there are obstacles that affect data collection (e.g., local or State regulations prohibit the release of student data), applicants may describe these factors and explain how they have overcome any obstacles to collecting data for purposes of evaluating the effectiveness of their program.

D. Implications for the Field

A primary goal of this awards program is to share with the public effective examples that might be adopted or otherwise used by others to improve teacher preparation programs throughout the country. In this section, applicants must discuss the challenges they have faced and overcome in administering their teacher preparation program, as well as the resulting lessons they have learned.

In responding to this section, applicants should consider the following:

1. What is at least one significant challenge that the program encountered within the last five years and how was it overcome? (Note: Since demonstrating the link between teacher preparation and K-12 student learning is a primary focus of the awards program, applicants should consider describing challenges related to this issue.)

2. What lessons that would benefit others have been learned about designing, implementing, or evaluating a program that prepares graduates who are effective in helping improve student learning for all K-12 students?

3. What program materials (e.g., videos, Web sites, course outlines, manuals, strategies, processes) are available that could benefit others?

4. How have or could you help others adapt the aspects of your program that contribute most to graduates' effectiveness with K-12 students?

Selection Criteria

Reviewers will evaluate the information provided in each application based on three criteria: rigor, sufficiency, and consistency. These criteria, and the performance levels applicable to each, are identified in the rubric shown in Figure 1. Reviewers will use this rubric as the review instrument to judge the quality of each application.

The Evidence of Effectiveness provided by an applicant under section C, the most critical portion of the application, will be evaluated on the basis of its rigor and sufficiency. The level of “rigor” applied to the evidence submitted will be determined by the extent to which the qualitative or quantitative data presented is found to be valid and reliable. The level of “sufficiency” applied to the evidence submitted will be determined by the adequacy and the extent of the data provided.

The application as a whole will be evaluated on the basis of its consistency. The level of “consistency” of the application will be based on the extent to which there is a logical link between various aspects of the program as described in Sections A, B, and D of the application and the evidence of effectiveness provided under Section C. For example, if an applicant indicates in sections A, B, or D of its application that field experiences are important to the preparation of teachers, then the application should describe the variety of field experiences that are spread over the duration of the program and also include, for purposes of “consistency,” documentation of the effectiveness of these experiences.

The rubric in Figure 1 identifies a range of performance levels, from 1 to 4, that reviewers will use to judge the quality of an application with regard to the three criteria—rigor, sufficiency, and consistency. Reviewers will assign a level of the rubric, 1 to 4, for each criterion based on their judgment of how well the information provided in the application matches the descriptions in the rubric of the relevant performance levels. Prior to reviewing applications, reviewers will receive extensive training in using the rubric to ensure inter-rater reliability.

Figure 1.—Rubric for Evaluating Evidence of Effectiveness
Performance levels | Selection criteria: Rigor | Selection criteria: Sufficiency | Selection criteria: Consistency
4 | The evidence is highly credible. The data are valid and indicators are free of bias. Reliability is supported by multi-year data from several sources. | There are extensive data that support claims of effectiveness. The evidence includes data from multiple sources with multiple indicators. | Components of the program are consistent with the vision of the program. Program components are monitored to determine if they are being instituted as designed. Evidence supports an intended, logical link between the program components and the outcomes. The evidence supports the link between program components and program success. The consistencies support the credibility of the evidence.
3 | The evidence is credible. Validity has been addressed for most of the data. There may be some questions of bias. Reliability is supported by two or more years of data from at least one data source. | There are adequate data to support the claims of effectiveness. There are multiple sources of evidence and multiple indicators for at least one source. | There are minor inconsistencies between the vision of the program and program components. Some components of program may not be monitored or there may be some inconsistencies between the evidence provided and the identified successful components of the program. The inconsistencies do not weaken the credibility of the evidence.
2 | The evidence has limited credibility. The rigor is compromised by issues of bias or validity/reliability. There are no multiyear data from any source. | There are limited data to support the claims of effectiveness. The data are collected from only one or two sources. There are no multiple indicators for the data source(s). | There are several inconsistencies between the vision of the program and program components. There are significant inconsistencies between the evidence provided and the identified successful components of the program. The inconsistencies raise questions about the credibility of the evidence.
1 | The evidence has little or no credibility. The rigor is significantly compromised by issues of bias, or there is not enough information to determine rigor. The data lack validity/ Reliability. There is no multi-year data. | There are not enough data to support claims of effectiveness. There is only a single source of data. | There are numerous inconsistencies between the vision of the program and its components. The evidence provided is not linked to the components of the program that have been identified as contributing to the program's success. The inconsistencies raise significant questions about the credibility of the evidence.

Selection Procedures

Award recipients will be selected through a five-stage process.

Stage 1. During the first stage, applications will be initially screened by Department staff to determine whether the submitting party meets the eligibility requirements and whether the application contains all necessary information (including the three types of evidence required under section C) and meets the formatting requirements.

Stage 2. The second stage of review, to determine up to 10 semi-finalists, will be conducted by non-Departmental teams representing a broad range of teacher educators, practitioners (e.g., mathematicians, mathematics educators, K-12 teachers, reading specialists), and policymakers (e.g., superintendents, school board members, principals) who will evaluate the quality of the applications against the selection criteria and applicable performance levels.

Stage 3. In the third stage, non-Department expert teams (team members would differ from the reviewers involved in Stages 2) will conduct site visits to verify information presented in the semi-finalists' applications and, to the extent available, to collect additional information. These teams will draft site-visit reports of their findings.

Stage 4. During the fourth stage, a non-Departmental national awards panel (panel members will differ from the reviewers involved Stages 2 and 3) will review the semi-finalist applications and site visit reports. Panel members will then present final recommendations to the Department on which teacher preparation programs merit national recognition.

Stage 5. In the fifth and final stage, the Department will review data collected throughout the review process and select for national recognition no more than 5 applications of the highest quality. The Secretary intends to publicly honor and recognize these awardees at a national ceremony in Washington, DC.

Goals 2000: Educate America Act

The Goals 2000: Educate America Act (Goals 2000) focuses the Nation's education reform efforts on the eight National Education Goals and provides a framework for meeting them. Goals 2000 promotes new partnerships to strengthen schools and expands the Department's capacities for helping communities to exchange ideas and obtain information needed to achieve the goals.

These eligibility and selection criteria address the National Education Goal that the Nation's teaching force will have the content knowledge and teaching skills needed to instruct all American students for the next century.

Intergovernmental Review

This program is subject to Executive Order 12372 and the regulations in 34 CFR part 79. One of the objectives of the Executive order is to foster an intergovernmental partnership and a strengthened federalism. The Executive order relies on processes developed by State and local governments for coordination and review of proposed Federal financial assistance.

This document is intended to provide early notification of our specific plans and actions for this program.

Program Authority: 20 U.S.C. 8001.

Electronic Access to This Document

You may review this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498; or in the Washington, DC area, at (202) 512-1530.

Note: The official version of this document is the document published in the Federal Register. Free Internet access to the official edition of the Federal Register and the Code of Federal Regulations is available on GPO Access at: http://www.access.gpo.gov/nara/index.html.

Dated: April 6, 2000.
C. Kent McGuire,
Assistant Secretary for Educational Research and Improvement.

[FR Doc. 00-8933 Filed 4-6-00; 1:51 pm]

BILLING CODE 4000-01-U